ENVIRONMENTAL PROTECTION AGENCY

40 CFR Parts 61 and 63

[EPA-R06-OAR-2008-0063; FRL-9985-49-Region 6]

National Emission Standards for Hazardous Air Pollutants; Delegation of Authority to Oklahoma

AGENCY: Environmental Protection Agency (EPA).

ACTION: Final rule; delegation of authority.

SUMMARY: The Oklahoma Department of Environmental Quality (ODEQ) has submitted updated regulations for receiving delegation and approval of its program for the implementation and enforcement of certain National Emission Standards for Hazardous Air Pollutants (NESHAP) for all sources (both part 70 and non-part 70 sources), as provided for under previously approved delegation mechanisms. The updated state regulations incorporate by reference certain NESHAP promulgated by the EPA at parts 61 and 63, as they existed through September 1, 2016. The EPA is providing notice that it is taking final action to approve the delegation of certain NESHAP to ODEQ.

DATES: This rule is effective on November 21, 2018.

ADDRESSES: The EPA has established a docket for this action under Docket ID No. EPA-R06-OAR-2008-0063. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available either electronically through http://www.regulations.gov or in hard copy at the EPA Region 6, 1445 Ross Avenue, Suite 700, Dallas, Texas 75202-2733.

FOR FURTHER INFORMATION CONTACT: Mr. Rick Barrett (6MM-AP), (214) 665-7227; email: barrett.richard@epa.gov.

SUPPLEMENTARY INFORMATION: Throughout this document wherever “we,” “us,” or “our” is used, we mean the EPA.

Table of Contents

I. Background

II. What does this action do?

III. What is the authority for delegation?

IV. What criteria must Oklahoma's program meet to be approved?

V. How did ODEQ meet the NESHAP program approval criteria?

VI. What is being delegated?

VII. What is not being delegated?

VIII. How will statutory and regulatory interpretations be made?

IX. What authority does the EPA have?

X. What information must ODEQ provide to the EPA?

XI. What is the EPA's oversight role?

XII. Should sources submit notices to the EPA or ODEQ?

XIII. How will unchanged authorities be delegated to ODEQ in the future?

XIV. Final Action

XV. Statutory and Executive Order Reviews

I. Background

The background for this action is discussed in detail in our August 10, 2018, proposal (83 FR 39641). In that document we proposed to approve a request from the Oklahoma Department of Environmental Quality (ODEQ) to update its existing NESHAP regulations for receiving delegation and approval of its program for the implementation and enforcement of certain National Emission Standards for Hazardous Air Pollutants (NESHAP) for all sources (both part 70 and non-part 70 sources), as provided for under previously approved delegation mechanisms. We received five anonymous public comments on the proposed rulemaking action. The comments are posted to the docket (EPA-R06-OAR-2008-0063). None of the comments are relevant to our proposed rulemaking to approve ODEQ's request updating the delegation of certain NESHAP. Since these comments are not relevant to the specific action EPA proposed, the EPA will not be responding to these comments or making any changes to our proposed rulemaking because of these comments.

II. What does this action do?

EPA is providing notice that it is taking final action to approve ODEQ's request updating the delegation of certain NESHAP. With this delegation, ODEQ has the primary responsibility to implement and enforce the delegated standards. See sections VII and VIII, below, for a discussion of which standards are being delegated and which are not being delegated.

III. What is the authority for delegation?

Section 112(l) of the CAA and 40 CFR part 63, subpart E, authorize the EPA to delegate authority for the implementation and enforcement of emission standards for hazardous air pollutants to a State or local agency that satisfies the statutory and regulatory requirements in subpart E. The hazardous air pollutant standards are codified at 40 CFR parts 61 and 63.

IV. What criteria must Oklahoma's program meet to be approved?

Section 112(l)(5) of the CAA requires the EPA to disapprove any program submitted by a State for the delegation of NESHAP standards if the EPA determines that:

(A) The authorities contained in the program are not adequate to assure compliance by the sources within the State with respect to each applicable standard, regulation, or requirement established under section 112;

(B) adequate authority does not exist, or adequate resources are not available, to implement the program;

(C) the schedule for implementing the program and assuring compliance by affected sources is not sufficiently expeditious; or

(D) the program is otherwise not in compliance with the guidance issued by the EPA under section 112(l)(2) or is not likely to satisfy, in whole or in part, the objectives of the CAA.

In carrying out its responsibilities under section 112(l), the EPA promulgated regulations at 40 CFR part 63, subpart E setting forth criteria for the approval of submitted programs. For example, in order to obtain approval of a program to implement and enforce Federal section 112 rules as promulgated without changes (straight delegation) for part 70 sources, a State must demonstrate that it meets the criteria of 40 CFR 63.91(d). 40 CFR 63.91(d)(3) provides that interim or final Title V program approval will satisfy the criteria of 40 CFR 63.91(d).¹

¹ Some NESHAP standards do not require a source to obtain a title V permit (e.g., certain area sources that are exempt from the requirement to obtain a title V permit). For these non-title V sources, the EPA believes that the State must assure the EPA that it can implement and enforce the NESHAP for such sources. See 65 FR 55810, 55813 (Sept. 14, 2000). EPA has previously approved Oklahoma's program to implement and enforce the NESHAP as they apply to non-part 70 sources. See 66 FR 1584 (Jan. 9, 2001).

The NESHAP delegation for Oklahoma, as it applies to both part 70 and non-part 70 sources, was most recently approved on December 13, 2005 (70 FR 73595).

V. How did ODEQ meet the NESHAP program approval criteria?

As to the NESHAP standards in 40 CFR parts 61 and 63, as part of its Title V submission ODEQ stated that it intended to use the mechanism of incorporation by reference to adopt unchanged Federal section 112 into its regulations. This commitment applied to both existing and future standards as they applied to part 70 sources. EPA's final interim approval of Oklahoma's Title V operating permits program delegated the authority to implement certain NESHAP, effective March 6, 1996 (61 FR 4220, February 5, 1996). On December 5, 2001, EPA promulgated final full approval of the State's operating permits program, effective November 30, 2001 (66 FR 63170). These interim and final Title V program approvals satisfy the up-front approval criteria of 40 CFR 63.91(d). Under 40 CFR 63.91(d)(2), once a State has satisfied up-front approval criteria, it needs only to reference the previous demonstration and reaffirm that it still meets the criteria for any subsequent submittals for delegation of the section 112 standards. ODEQ has affirmed that it still meets the up-front approval criteria. With respect to non-part 70 sources, the EPA has previously approved delegation of NESHAP authorities to ODEQ after finding adequate authorities to implement and enforce the NESHAP for such sources. See 66 FR 1584 (January 9, 2001).

VI. What is being delegated?

By letter dated June 25, 2018, the EPA received a request from ODEQ to update its existing NESHAP delegation.² With certain exceptions noted in section VII below, Oklahoma's request included NESHAP in 40 CFR part 61 and 40 CFR part 63. ODEQ's request included newly incorporated NESHAP promulgated by the EPA and amendments to existing standards currently delegated, as they existed though September 1, 2016. This action is being taken in reponse to ODEQ's request noted above.

² ODEQ's June 25, 2018 letter rescinds its previous three letters, dated January 11, 2008; August 23, 2012; and October 16, 2017, requesting EPA approval to update Oklahoma's NESHAP delegation.. As such, the EPA's proposed rulemaking (80 FR 9678, February 24, 2015) associated with ODEQ's January 11, 2008 letter is hereby withdrawn.

VII. What is not being delegated?

All authorities not affirmatively and expressly delegated by this action are not delegated. These include the following part 61 and 63 authorities listed below:

• 40 CFR part 61, subpart B (National Emission Standards for Radon Emissions from Underground Uranium Mines);

• 40 CFR part 61, subpart H (National Emission Standards for Emissions of Radionuclides Other Than Radon From Department of Energy Facilities);

• 40 CFR part 61, subpart I (National Emission Standards for Radionuclide Emissions from Federal Facilities Other Than Nuclear Regulatory Commission Licensees and Not Covered by Subpart H);

• 40 CFR part 61, subpart K (National Emission Standards for Radionuclide Emissions from Elemental Phosphorus Plants);

• 40 CFR part 61, subpart Q (National Emission Standards for Radon Emissions from Department of Energy facilities);

• 40 CFR part 61, subpart R (National Emission Standards for Radon Emissions from Phosphogypsum Stacks);

• 40 CFR part 61, subpart T (National Emission Standards for Radon Emissions from the Disposal of Uranium Mill Tailings);

• 40 CFR part 61, subpart W (National Emission Standards for Radon Emissions from Operating Mill Tailings); and

• 40 CFR part 63, subpart J (National Emission Standards for Polyvinyl Choride and Copolymers Production).

In addition, the EPA regulations provide that we cannot delegate to a State any of the Category II Subpart A authorities set forth in 40 CFR 63.91(g)(2). These include the following provisions: § 63.6(g), Approval of Alternative Non-Opacity Standards; § 63.6(h)(9), Approval of Alternative Opacity Standards; § 63.7(e)(2)(ii) and (f), Approval of Major Alternatives to Test Methods; § 63.8(f), Approval of Major Alternatives to Monitoring; and § 63.10(f), Approval of Major Alternatives to Recordkeeping and Reporting. Also, some part 61 and part 63 standards have certain provisions that cannot be delegated to the States. Furthermore, no authorities are delegated that require rulemaking in the Federal Register to implement, or where Federal overview is the only way to ensure national consistency in the application of the standards or requirements of CAA section 112. Finally, this action does not delegate any authority under section 112(r), the accidental release program.

All inquiries and requests concerning implementation and enforcement of the excluded standards in the State of Oklahoma should be directed to the EPA Region 6 Office.

In addition, this delegation to ODEQ to implement and enforce certain NESHAP does not extend to sources or activities located in Indian country, as defined in 18 U.S.C. 1151. Oklahoma is not seeking delegation for such areas, and neither the EPA nor ODEQ is aware of any existing facilities in Indian country subject to the NESHAP being delegated. ODEQ may submit a request to expand this program to non-reservation areas of Indian country in the future, at which time the EPA would evaluate the request through the appropriate process.

VIII. How will statutory and regulatory interpretations be made?

In approving the NESHAP delegation, ODEQ will obtain concurrence from the EPA on any matter involving the interpretation of section 112 of the CAA or 40 CFR parts 61 and 63 to the extent that implementation or enforcement of these provisions have not been covered by prior EPA determinations or guidance.

IX. What authority does the EPA have?

We retain the right, as provided by CAA section 112(l)(7) and 40 CFR 63.90(d)(2), to enforce any applicable emission standard or requirement established under section 112. In addition, the EPA may enforce any federally approved State rule, requirement, or program under 40 CFR 63.90(e) and 63.91(c)(1)(i). The EPA also has the authority to make certain decisions under the General Provisions (subpart A) of parts 61 and 63. We are delegating to the ODEQ some of these authorities, and retaining others, as explained in sections VI and VII above. In addition, the EPA may review and disapprove State determinations and subsequently require corrections. See 40 CFR 63.91(g)(1)(ii). EPA also has the authority to review ODEQ's implementation and enforcement of approved rules or programs and to withdraw approval if we find inadequate implementation or enforcement. See 40 CFR 63.96.

Furthermore, we retain any authority in an individual emission standard that may not be delegated according to provisions of the standard. Also, listed in footnote 2 of the part 63 delegation table at the end of this rule are the authorities that cannot be delegated to any State or local agency which we therefore retain.

Finally, we retain the authorities stated in the original delegation agreement. See “Provisions for the Implementation and Enforcement of NSPS and NESHAP in Oklahoma,” effective March 25, 1982, a copy of which is included in the docket for this action.

X. What information must ODEQ provide to the EPA?

ODEQ must provide any additional compliance related information to EPA, Region 6, Office of Enforcement and Compliance Assurance within 45 days of a request under 40 CFR 63.96(a). In receiving delegation for specific General Provisions authorities, ODEQ must submit to EPA Region 6 on a semi-annual basis, copies of determinations issued under these authorities. See 40 CFR 63.91(g)(1)(ii). For part 63 standards, these determinations include: § 63.1, Applicability Determinations; § 63.6(e), Operation and Maintenance Requirements—Responsibility for Determining Compliance; § 63.6(f), Compliance with Non-Opacity Standards—Responsibility for Determining Compliance; § 63.6(h), Compliance with Opacity and Visible Emissions Standards—Responsibility for Determining Compliance; § 63.7(c)(2)(i) and (d), Approval of Site-Specific Test Plans; § 63.7(e)(2)(i), Approval of Minor Alternatives to Test Methods; § 63.7(e)(2)(ii) and (f), Approval of Intermediate Alternatives to Test Methods; § 63.7(e)(iii), Approval of Shorter Sampling Times and Volumes When Necessitated by Process Variables or Other Factors; § 63.7(e)(2)(iv), (h)(2) and (3), Waiver of Performance Testing; § 63.8(c)(1) and (e)(1), Approval of Site-Specific Performance Evaluation (Monitoring) Test Plans; § 63.8(f), Approval of Minor Alternatives to Monitoring; § 63.8(f), Approval of Intermediate Alternatives to Monitoring; §§ 63.9 and 63.10, Approval of Adjustments to Time Periods for Submitting Reports; § 63.10(f), Approval of Minor Alternatives to Recordkeeping and Reporting; and § 63.7(a)(4), Extension of Performance Test Deadline.

XI. What is the EPA's oversight role?

The EPA oversees ODEQ's decisions to ensure the delegated authorities are being adequately implemented and enforced. We will integrate oversight of the delegated authorities into the existing mechanisms and resources for oversight currently in place. If, during oversight, we determine that ODEQ made decisions that decreased the stringency of the delegated standards, then ODEQ shall be required to take corrective actions and the source(s) affected by the decisions will be notified, as required by 40 CFR 63.91(g)(1)(ii) and (b). Our oversight authorities allow us to initiate withdrawal of the program or rule if the corrective actions taken are insufficient. See 51 FR 20648 (June 6, 1986).

XII. Should sources submit notices to the EPA or ODEQ?

For the delegated NESHAP standards and authorities covered by this action, sources would submit all of the information required pursuant to the general provisions and the relevant subpart(s) of the delegated NESHAP (40 CFR parts 61 and 63) directly to the ODEQ at the following address: State of Oklahoma, Department of Environmental Quality, Air Quality Division, P.O. Box 1677, Oklahoma City, Oklahoma 73101-1677. The ODEQ is the primary point of contact with respect to delegated NESHAP. Sources do not need to send a copy to the EPA. The EPA Region 6 waives the requirement that notifications and reports for delegated standards be submitted to EPA in addition to ODEQ in accordance with 40 CFR 63.9(a)(4)(ii) and 63.10(a)(4)(ii).³ For those standards and authorties not delegated as discussed above, sources must continue to submit all appropriate information to the EPA.

³ This waiver only extends to the submission of copies of notifications and reports; the EPA does not waive the requirements in delegated standards that require notifications and reports be submitted to an electronic database (e.g., 40 CFR part 63, subpart HHHHHHH).

XIII. How will unchanged authorities be delegated to ODEQ in the future?

As stated in previous NESHAP delegation actions, the EPA has approved Oklahoma's mechanism of incorporation by reference of NESHAP standards into ODEQ regulations, as they apply to both part 70 and non-part 70 sources. See, e.g., 61 FR 4224 (February 5, 1996) and 66 FR 1584 (January 9, 2001). Consistent with the EPA regulations and guidance,⁴ ODEQ may request future updates to Oklahoma's NESHAP delegation by submitting a letter to the EPA that appropriately identifies the specific NESHAP which have been incorporated by reference into state regulations, reaffirms that it still meets up-front approval delegation criteria for part 70 sources, and demonstrates that ODEQ maintains adequate authorites and resources to implement and enforce the delegated NESHAP requirements for all sources. We will respond in writing to the request stating that the request for delegation is either granted or denied. A Federal Register action will be published to inform the public and affected sources of the updated delegation, indicate where source notifications and reports should be sent, and amend the relevant portions of the Code of Federal Regulations identifying which NESHAP standards have been delegated to the ODEQ. We have not been using this informational notice process but intend to from now on upon receipt of the next NESHAP delegation request from ODEQ.⁵

⁴ See Harardous Air Pollutants: Amendments to the Approval of State Programs and Delegation of Federal Authorities, Final Rule (65 FR 55810, September 14, 2000); and “Straight Delegation Issues Concerning Sections 111 and 112 Requirements and Title V,” by John S. Seitz, Director of Air Qualirty Planning and Standards, EPA, dated December 10, 1993.

⁵ A request from ODEQ that raises an issue not previously subject to comment, presents new data, requires EPA to examine its interpretion of the applicable law, or where EPA wishes to re-examine its present position on a matter will be processed through notice and comment rulemaking in the Federal Register.

XIV. Final Action

EPA is taking final action to approve an update to the Oklahoma NESHAP delegation that would provide the ODEQ with the authority to implement and enforce certain newly incorporated NESHAP promulgated by the EPA, and amendments to existing standards currently delegated, as they existed though September 1, 2016. As requested in ODEQ's June 25, 2018 letter, this final delegation to ODEQ does not extend to sources or activities located in Indian country, as defined in 18 U.S.C. 1151.

XV. Statutory and Executive Order Reviews

Under the CAA, the Administrator has the authority to approve section 112(l) submissions that comply with the provisions of the Act and applicable Federal regulations. In reviewing section 112(l) submissions, the EPA's role is to approve state choices, provided that they meet the criteria and objectives of the CAA and of the EPA's implementing regulations. Accordingly, this final action merely approves the State's request as meeting Federal requirements and does not impose additional requirements beyond those imposed by state law. For that reason, this final action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

List of Subjects

40 CFR Part 61

Environmental protection, Administrative practice and procedure, Air pollution control, Arsenic, Benzene, Beryllium, Hazardous substances, Mercury, Intergovernmental relations, Reporting and recordkeeping requirements, Vinyl chloride.

40 CFR Part 63

Environmental protection, Administrative practice and procedure, Air pollution control, Hazardous substances, Intergovernmental relations, Reporting and recordkeeping requirements.

Authority: 42 U.S.C. 7401 et seq

Dated: October 16, 2018.
Wren Stenger,
Director, Multimedia Division, Region 6.

For the reasons stated in the preamble, 40 CFR parts 61 and 63 are amended as follows:

PART 61—NATIONAL EMISSON STANDARDS FOR HAZARDOUS AIR POLLUTANTS

1. The authority citation for part 61 continues to read as follows:

Authority: 42 U.S.C. 7401 et seq.

Subpart A—General Provisions

2. Section 61.04 is amended by revising paragraphs (b)(38) and (c)(6)(iv) to read as follows:

§ 61.04 Address.

* * * * *

(b) * * *

(38) State of Oklahoma, Oklahoma Department of Environmental Quality, Air Quality Division, P.O. Box 1677, Oklahoma City, OK 73101-1677. For a list of delegated standards for Oklahoma see paragraph (c)(6) of this section.

* * * * *

(c) * * *

(6) * * *

(iv) Oklahoma. The Oklahoma Department of Environmental Quality (ODED) has been delegated the following part 61 standards promulgated by EPA, as amended in the Federal Register through September 1, 2016. The (X) symbol is used to indicate each subpart that has been delegated.

Delegation Status for National Emission Standards for Hazardous Air Pollutants (Part 61 Standards) for Oklahoma
[Excluding Indian Country]
Subpart | Source category | ODEQ ¹
A | General Provisions | X
B | Radon Emissions From Underground Uranium Mines |
C | Beryllium | X
D | Beryllium Rocket Motor Firing | X
E | Mercury | X
F | Vinyl Chloride | X
G | (Reserved) |
H | Emissions of Radionuclides Other Than Radon From Department of Energy Facilities |
I | Radionuclide Emissions From Federal Facilities Other Than Nuclear Regulatory Commission Licensees and Not Covered by Subpart H |
J | Equipment Leaks (Fugitive Emission Sources) of Benzene | X
K | Radionuclide Emissions From Elemental Phosphorus Plants |
L | Benzene Emissions From Coke By-Product Recovery Plants | X
M | Asbestos | X
N | Inorganic Arsenic Emissions From Glass Manufacturing Plants | X
O | Inorganic Arsenic Emissions From Primary Copper Smelters | X
P | Inorganic Arsenic Emissions From Arsenic Trioxide and Metallic Arsenic Production Facilities | X
Q | Radon Emissions From Department of Energy Facilities |
R | Radon Emissions From Phosphogypsum Stacks |
S | (Reserved) |
T | Radon Emissions From the Disposal of Uranium Mill Tailings |
U | (Reserved) |
V | Equipment Leaks (Fugitives Emission Sources) | X
W | Radon Emissions From Operating Mill Tailings |
X | (Reserved) |
Y | Benzene Emissions From Benzene Storage Vessels | X
Z-AA | (Reserved) |
BB | Benzene Emissions From Benzene Transfer Operations | X
CC-EE | (Reserved) |
FF | Benzene Waste Operations | X
¹ Program delegated to Oklahoma Department of Environmental Quality (ODEQ).

* * * * *

PART 63—NATIONAL EMISSON STANDARDS FOR HAZARDOUS AIR POLLUTANTS FOR SOURCE CATEGORIES

3. The authority citation for part 63 continues to read as follows:

Authority: 42 U.S.C. 7401 et seq.

Subpart E—Approval of State Programs and Delegation of Federal Authorities

4. Section 63.99 is amended by revising paragraph (a)(37)(i) to read as follows:

§ 63.99 Delegated Federal authorities.

(a) * * *

(37) * * *

(i) The following table lists the specific part 63 standards that have been delegated unchanged to the Oklahoma Department of Environmental Quality for all sources. The “X” symbol is used to indicate each subpart that has been delegated. The delegations are subject to all of the conditions and limitations set forth in Federal law, regulations, policy, guidance, and determinations. Some authorities cannot be delegated and are retained by EPA. These include certain General Provisions authorities and specific parts of some standards. Any amendments made to these rules after September 1, 2016 are not delegated.

Delegation Status for Part 63 Standards—State of Oklahoma
[Excluding Indian Country]
Subpart | Source category | ODEQ 1 2
A | General Provisions | X
F | Hazardous Organic NESHAP (HON)—Synthetic Organic Chemical Manufacturing Industry (SOCMI) | X
G | HON—SOCMI Process Vents, Storage Vessels, Transfer Operations and Wastewater | X
H | HON—Equipment Leaks | X
I | HON—Certain Processes Negotiated Equipment Leak Regulation | X
J | Polyvinyl Chloride and Copolymers Production | ³
K | (Reserved) |
L | Coke Oven Batteries | X
M | Perchloroethylene Dry Cleaning | X
N | Chromium Electroplating and Chromium Anodizing Tanks | X
O | Ethylene Oxide Sterilizers | X
P | (Reserved) |
Q | Industrial Process Cooling Towers | X
R | Gasoline Distribution | X
S | Pulp and Paper Industry | X
T | Halogenated Solvent Cleaning | X
U | Group I Polymers and Resins | X
V | (Reserved) |
W | Epoxy Resins Production and Non-Nylon Polyamides Production | X
X | Secondary Lead Smelting | X
Y | Marine Tank Vessel Loading | X
Z | (Reserved) |
AA | Phosphoric Acid Manufacturing Plants | X
BB | Phosphate Fertilizers Production Plants | X
CC | Petroleum Refineries | X
DD | Off-Site Waste and Recovery Operations | X
EE | Magnetic Tape Manufacturing | X
FF | (Reserved) |
GG | Aerospace Manufacturing and Rework Facilities | X
HH | Oil and Natural Gas Production Facilities | X
II | Shipbuilding and Ship Repair Facilities | X
JJ | Wood Furniture Manufacturing Operations | X
KK | Printing and Publishing Industry | X
LL | Primary Aluminum Reduction Plants | X
MM | Chemical Recovery Combustion Sources at Kraft, Soda, Sulfide, and Stand-Alone Semichemical Pulp Mills | X
NN | Wool Fiberglass Manufacturing at Area Sources | X
OO | Tanks-Level 1 | X
PP | Containers | X
QQ | Surface Impoundments | X
RR | Individual Drain Systems | X
SS | Closed Vent Systems, Control Devices, Recovery Devices and Routing to a Fuel Gas System or a Process | X
TT | Equipment Leaks—Control Level 1 | X
UU | Equipment Leaks—Control Level 2 Standards | X
VV | Oil—Water Separators and Organic—Water Separators | X
WW | Storage Vessels (Tanks)—Control Level 2 | X
XX | Ethylene Manufacturing Process Units Heat Exchange Systems and Waste Operations | X
YY | Generic Maximum Achievable Control Technology Standards | X
ZZ-BBB | (Reserved) |
CCC | Steel Pickling—HCI Process Facilities and Hydrochloric Acid Regeneration | X
DDD | Mineral Wool Production | X
EEE | Hazardous Waste Combustors | X
FFF | (Reserved) |
GGG | Pharmaceuticals Production | X
HHH | Natural Gas Transmission and Storage Facilities | X
III | Flexible Polyurethane Foam Production | X
JJJ | Group IV Polymers and Resins | X
KKK | (Reserved) |
LLL | Portland Cement Manufacturing | X
MMM | Pesticide Active Ingredient Production | X
NNN | Wool Fiberglass Manufacturing | X
OOO | Amino/Phenolic Resins | X
PPP | Polyether Polyols Production | X
QQQ | Primary Copper Smelting | X
RRR | Secondary Aluminum Production | X
SSS | (Reserved) |
TTT | Primary Lead Smelting | X
UUU | Petroleum Refineries—Catalytic Cracking Units, Catalytic Reforming Units and Sulfur Recovery Plants | X
VVV | Publicly Owned Treatment Works (POTW) | X
WWW | (Reserved) |
XXX | Ferroalloys Production: Ferromanganese and Silicomanganese | X
AAAA | Municipal Solid Waste Landfills | X
CCCC | Nutritional Yeast Manufacturing | X
DDDD | Plywood and Composite Wood Products | ⁴ X
EEEE | Organic Liquids Distribution | X
FFFF | Misc. Organic Chemical Production and Processes (MON) | X
GGGG | Solvent Extraction for Vegetable Oil Production | X
HHHH | Wet Formed Fiberglass Mat Production | X
IIII | Auto & Light Duty Truck (Surface Coating) | X
JJJJ | Paper and other Web (Surface Coating) | X
KKKK | Metal Can (Surface Coating) | X
MMMM | Misc. Metal Parts and Products (Surface Coating) | X
NNNN | Surface Coating of Large Appliances | X
OOOO | Fabric Printing Coating and Dyeing | X
PPPP | Plastic Parts (Surface Coating) | X
QQQQ | Surface Coating of Wood Building Products | X
RRRR | Surface Coating of Metal Furniture | X
SSSS | Surface Coating for Metal Coil | X
TTTT | Leather Finishing Operations | X
UUUU | Cellulose Production Manufacture | X
VVVV | Boat Manufacturing | X
WWWW | Reinforced Plastic Composites Production | X
XXXX | Tire Manufacturing | X
YYYY | Combustion Turbines | X
ZZZZ | Reciprocating Internal Combustion Engines (RICE) | X
AAAAA | Lime Manufacturing Plants | X
BBBBB | Semiconductor Manufacturing | X
CCCCC | Coke Ovens: Pushing, Quenching and Battery Stacks | X
DDDDD | Industrial/Commercial/Institutional Boilers and Process Heaters Major Sources | ⁵ X
EEEEE | Iron Foundries | X
FFFFF | Integrated Iron and Steel | X
GGGGG | Site Remediation | X
HHHHH | Miscellaneous Coating Manufacturing | X
IIIII | Mercury Cell Chlor-Alkali Plants | X
JJJJJ | Brick and Structural Clay Products Manufacturing | ⁶ X
KKKKK | Clay Ceramics Manufacturing | ⁶ X
LLLLL | Asphalt Roofing and Processing | X
MMMMM | Flexible Polyurethane Foam Fabrication Operation | X
NNNNN | Hydrochloric Acid Production, Fumed Silica Production | X
OOOOO | (Reserved) |
PPPPP | Engine Test Facilities | X
QQQQQ | Friction Products Manufacturing | X
RRRRR | Taconite Iron Ore Processing | X
SSSSS | Refractory Products Manufacture | X
TTTTT | Primary Magnesium Refining | X
UUUUU | Coal and Oil-Fired Electric Utility Steam Generating Units | ⁷ X
VVVVV | (Reserved) |
WWWWW | Hospital Ethylene Oxide Sterilizers | X
XXXXX | (Reserved) |
YYYYY | Electric Arc Furnace Steelmaking Area Sources | X
ZZZZZ | Iron and Steel Foundries Area Sources | X
AAAAAA | (Reserved) |
BBBBBB | Gasoline Distribution Bulk Terminals, Bulk Plants, and Pipeline Facilities | X
CCCCCC | Gasoline Dispensing Facilities | X
DDDDDD | Polyvinyl Chloride and Copolymers Production Area Sources | X
EEEEEE | Primary Copper Smelting Area Sources | X
FFFFFF | Secondary Copper Smelting Area Sources | X
GGGGGG | Primary Nonferrous Metals Area Source: Zinc, Cadmium, and Beryllium | X
HHHHHH | Paint Stripping and Miscellaneous Surface Coating Operations at Area Sources | X
IIIIII | (Reserved) |
JJJJJJ | Industrial, Commercial, and Institutional Boilers Area Sources | X
KKKKKK | (Reserved) |
LLLLLL | Acrylic and Modacrylic Fibers Production Area Sources | X
MMMMMM | Carbon Black Production Area Sources | X
NNNNNN | Chemical Manufacturing Area Sources: Chromium Compounds | X
OOOOOO | Flexible Polyurethane Foam Production and Fabrication Area Sources | X
PPPPPP | Lead Acid Battery Manufacturing Area Sources | X
QQQQQQ | Wood Preserving Area Sources | X
RRRRRR | Clay Ceramics Manufacturing Area Sources | X
SSSSSS | Glass Manufacturing Area Sources | X
TTTTTT | Secondary Nonferrous Metals Processing Area Sources | X
UUUUUU | (Reserved) |
VVVVVV | Chemical Manufacturing Area Sources | X
WWWWWW | Plating and Polishing Operations Area Sources | X
XXXXXX | Metal Fabrication and Finishing Area Sources | X
YYYYYY | Ferroalloys Production Facilities Area Sources | X
ZZZZZZ | Aluminum, Copper, and Other Nonferrous Foundries Area Sources | X
AAAAAAA | Asphalt Processing and Asphalt Roofing Manufacturing Area Sources | X
BBBBBBB | Chemical Preparation Industry Area Sources | X
CCCCCCC | Paints and Allied Products Manufacturing Area Sources | X
DDDDDDD | Prepared Feeds Areas Sources | X
EEEEEEE | Gold Mine Ore Processing and Production Area Sources | X
FFFFFFF-GGGGGGG | (Reserved) |
HHHHHHH | Polyvinyl Chloride and Copolymers Production Major Sources | X
¹ Program delegated to Oklahoma Department of Environmental Quality (ODEQ).
² Authorities which may not be delegated include: § 63.6(g), Approval of Alternative Non-Opacity Emission Standards; § 63.6(h)(9), Approval of Alternative Opacity Standards; § 63.7(e)(2)(ii) and (f), Approval of Major Alternatives to Test Methods; § 63.8(f), Approval of Major Alternatives to Monitoring; § 63.10(f), Approval of Major Alternatives to Recordkeeping and Reporting; and all authorities identified in the subparts (e.g., under “Delegation of Authority”) that cannot be delegated.
³ The ODEQ has adopted this subpart unchanged and applied for delegation of the standard. The subpart was vacated and remanded to EPA by the United States Court of Appeals for the District of Columbia Circuit. See, Mossville Environmental Action Network v. EPA, 370 F. 3d 1232 (DC Cir. 2004). Because of the DC Court's holding, this subpart is not delegated to ODEQ at this time.
⁴ This subpart was issued a partial vacatur by the United States Court of Appeals for the District of Columbia Circuit. See 72 FR 61060 (October 29, 2007).
⁵ Final rule. See 76 FR 15608 (March 21, 2011), as amended at 78 FR 7138 (January 31, 2013); 80 FR 72807 (November 20, 2015).
⁶ Final promulgated rule adopted by the EPA. See 80 FR 65470 (October 26, 2015). Note that Part 63 Subpart KKKKK was amended to correct minor typographical errors at 80 FR 75817 (December 4, 2015).
⁷ Final Rule. See 77 FR 9304 (February 16, 2012), as amended 81 FR 20172 (April 6, 2016). Final Supplemental Finding that it is appropriate and necessary to regulate HAP emissions from Coal- and Oil-fired EUSGU Units. See 81 FR 24420 (April 25, 2016).

* * * * *

[FR Doc. 2018-22999 Filed 10-19-18; 8:45 am]

BILLING CODE 6560-50-P